DEPARTMENT OF ENERGY

Federal Energy Regulatory Commission

[Equitrans, L.P.; Docket Nos. CP15-41-000; CP15-41-001]

Supplemental Notice of Intent To Prepare an Environmental Assessment for the Proposed Ohio Valley Connector Project Amendment and Request for Comments on Environmental Issues

On August 29, 2014, the Federal Energy Regulatory Commission (FERC or Commission) issued in Docket No. PF14-13-000 a Notice of Intent to Prepare an Environmental Assessment for the Planned Ohio Valley Connector Project and Request for Comments on Environmental Issues (NOI). Since its application in the above-referenced docket, Equitrans, L.P. (Equitrans) has amended the original proposal to no longer include the H-313 Pipeline Loop ¹ and incorporate route modifications along the remaining pipeline segments. This Supplemental Notice is being issued to seek comments on the revised pipeline alignment and opens a new scoping period for interested parties to file comments on environmental issues specific to these facilities.

¹ A loop is a segment of pipeline constructed parallel to an existing pipeline that ties into the existing system to increase capacity.

The August 29, 2014 NOI announced that the FERC staff will prepare an environmental assessment (EA) to address the environmental impacts of the Ohio Valley Connector Project (Project). Please refer to the NOI for more information about the facilities proposed by Equitrans in West Virginia and Ohio. The Commission will use this EA in its decision-making process to determine whether the Project is in the public convenience and necessity.

You can make a difference by providing us with your specific comments or concerns about the Project. Your comments should focus on the potential environmental effects, reasonable alternatives, and measures to avoid or lessen environmental impacts. To ensure that your comments are timely and properly recorded, please send your comments so that the Commission receives them in Washington, DC on or before June 29, 2015.

The Commission previously solicited public input on the Project in the fall of 2014. We ² are specifically seeking comments on the pipeline route modifications to help the Commission staff determine what issues need to be evaluated in the EA. If you have previously submitted comments during the pre-filing review in docket no. PF14-13-000, you do not need to resubmit your comments. Please note that this special scoping period will close on June 29, 2015.

² “We,” “us,” and “our” refer to the environmental staff of the Commission's Office of Energy Projects.

This Supplemental Notice is being sent to the Commission's current environmental mailing list for this Project, with the exception that only those landowners that are newly affected by the proposed pipeline route modifications, or those that were previously affected by the H-313 Pipeline Loop are receiving this Notice. State and local government representatives are asked to notify their constituents of this proposed Project and encourage them to comment on their areas of concern.

If you are a landowner receiving this notice, a pipeline company representative may contact you about the acquisition of an easement to construct, operate, and maintain the proposed facilities. The company would seek to negotiate a mutually acceptable agreement. However, if the Commission approves the Project, that approval conveys with it the right of eminent domain. Therefore, if the easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically-asked questions, including the use of eminent domain and how to participate in the Commission's proceedings.

Public Participation

For your convenience, there are three methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Summary of Project Modifications

Since Equitrans filed its application for the Project, it has incorporated the following changes:

• No longer proposing the 14-mile-long, 24-inch-diameter pipeline (also known as the H-313 segment) along with the associated facilities, access roads, and workspaces in Marion and Wetzel Counties, West Virginia;

• adoption of four route modifications along the H-310 pipeline segment in Wetzel and Marshall Counties, West Virginia and Monroe County, Ohio for a total increase of 0.9 mile of pipeline;

• minor modifications to the alignments of the H-311 and H-314 pipeline segments in Monroe County, Ohio;

• minor modifications to the layout in aboveground facilities; and

• modifications to the locations and whether access roads would be permanent or temporary, laydown/contractor yards, and additional temporary workspaces.

An overview of the proposed Project is shown in Appendix 1.³ Additionally, Appendix 1 includes a figure that shows the revisions of the Project compared to what was originally proposed.

³ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

The EA Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EA on important environmental issues. By this notice, the Commission requests public comments on the scope of issues to address in the EA. We will consider all substantive comments during the preparation of the EA.

In the EA, we will discuss impacts that could occur as a result of the construction and operation of the proposed Project under these general headings:

• Geology;

• soils;

• water resources;

• vegetation;

• wildlife and aquatic resources;

• fisheries and aquatic resources;

• threatened, endangered, and other special-status species;

• land use, recreation, special interest areas, and visual resources;

• socioeconomics;

• cultural resources;

• air quality and noise;

• reliability and safety; and

• cumulative environmental impacts.

We will also evaluate possible alternatives to the proposed Project or portions of the Project, and make recommendations on how to lessen or avoid impacts on the various resource areas.

The EA will present our independent analysis of the issues. We will publish and distribute the EA for public comment. After the comment period, we will consider all timely comments which will be addressed in the Commission's decisional order.

Please note that since Equitrans has filed an application for the proposed Project, a docket number has been assigned (CP15-41-000). As part of our pre-filing review, we participated in public Open House meetings sponsored by Equitrans in the Project area in July 2014 to explain the environmental review process to interested stakeholders. We have also contacted federal and state agencies to discuss their involvement in the scoping process and the preparation of the EA. To date, only the U.S. Army Corps of Engineers has expressed its intention to participate as a cooperating agency in the preparation of the EA to satisfy its NEPA responsibilities related to this Project.

Consultations Under Section 106 of the National Historic Preservation Act

In accordance with the Advisory Council on Historic Preservation's implementing regulations for section 106 of the National Historic Preservation Act, we initiated consultation with the applicable State Historic Preservation Offices with the issuance of the August 2014 NOI to solicit their views and those of other government agencies, interested Indian tribes, and the public on the Project's potential effects on historic properties.⁴ We will define the project-specific Area of Potential Effects in consultation with the State Historic Preservation Offices as the Project develops. On natural gas facility projects, the Area of Potential Effects at a minimum encompasses all areas subject to ground disturbance (examples include construction right-of-way, contractor/pipe storage yards, compressor stations, and access roads). Our EA for this Project will document our findings on the impacts on historic properties and summarize the status of consultations under section 106.

⁴ The Advisory Council on Historic Preservation's regulations are at Title 36, Code of Federal Regulations, Part 800. Historic properties are defined in those regulations as any prehistoric or historic district, site, building, structure, or object included in or eligible for inclusion in the National Register of Historic Places.

Environmental Mailing List

The environmental mailing list includes federal, state, and local government representatives and agencies; elected officials; environmental and public interest groups; Native American Tribes; other interested parties; commenters; and local libraries and newspapers. This list also includes landowners affected by the amendment who are potential right-of-way grantors, whose property may be used temporarily for Project purposes, or who own homes within certain distances of aboveground facilities; or those previously identified landowners that would have been affected by the H-313 Pipeline Loop. We will update the environmental mailing list as the analysis proceeds to ensure that we send the information related to this environmental review to all individuals, organizations, and government entities interested in and/or potentially affected by the proposed Project.

Copies of the completed EA will be sent to the environmental mailing list for public review and comment. If you would prefer to receive a paper copy of the document instead of a CD version or would like to remove your name from the mailing list, please return the attached Information Request (Appendix 2). In addition, those landowners along the previously proposed H-313 Pipeline Loop will be removed from the environmental mailing list after receipt of this Notice, unless the Information Request is filled out and returned to the FERC in a timely manner.

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the Project is available from the Commission's Office of External Affairs, at (866) 208-FERC, or on the FERC Web site (www.ferc.gov) using the eLibrary link. Click on the eLibrary link, click on “General Search” and enter the docket number, excluding the last three digits in the Docket Number field (i.e., CP15-41). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, Equitrans has established a toll-free phone number (1-844-EQT-TALK, or 844-378-8255) and an email support address (ovcpipeline@eqt.com) so that parties can call them directly with questions about the Project.

Dated: May 29, 2015.
Nathaniel J. Davis, Sr.,
Deputy Secretary.

[FR Doc. 2015-13728 Filed 6-4-15; 8:45 am]

BILLING CODE 6717-01-P